SECURITIES AND EXCHANGE COMMISSION

[File No. 500-1]

In the Matter of All Grade Mining, Inc., Bluforest, Inc., DHS Holding Co., Essential Innovations, Technology Corp., Global Green Inc., Inova Technology, Inc., mLight Tech, Inc., Solar Thin Films, Inc., Xumanii International, Holdings Corp.; Order of Suspension of Trading

September 25, 2014.

It appears to the Securities and Exchange Commission that there is a lack of current and accurate information concerning the securities of the issuers listed below.

1. All Grade Mining, Inc. is a Colorado corporation based in New Jersey. Questions have arisen concerning the adequacy and accuracy of press releases concerning the company's revenues. The company is quoted on OTC Link operated by OTC Markets Group, Inc. (“OTC Link”), under the ticker symbol HYII.

2. Bluforest, Inc. is a Nevada corporation based in Quito, Ecuador. Questions have arisen concerning the adequacy of publicly available information about the company because it has not filed any periodic reports since the period ended September 30, 2013. The company is quoted on OTC Link under the ticker symbol BLUF.

3. DHS Holding Co. is a Nevada corporation based in Tennessee. Questions have arisen concerning the adequacy and accuracy of press releases concerning the company's revenues. The company is quoted on OTC Link under the ticker symbol DHSM.

4. Essential Innovations Technology Corp. is a Nevada corporation based in Washington state and Hong Kong. Questions have arisen concerning the adequacy and accuracy of press releases concerning the company's operations. The company is quoted on OTC Link under the ticker symbol ESIV.

5. Global Green Inc. is a Florida corporation based in Florida. Questions have arisen concerning the adequacy and accuracy of press releases concerning the company's operations. The company is quoted on OTC Link under the ticker symbol GOGC.

6. Inova Technology, Inc. is a Nevada corporation based in Nevada. Questions have arisen concerning the adequacy of publicly available information about the company because it has not filed any periodic reports since the period ended July 31, 2013. The company is quoted on OTC Link under the ticker symbol INVA.

7. mLight Tech, Inc. is a Florida corporation based in California. Questions have arisen concerning the adequacy and accuracy of press releases concerning the company's operations. The company is quoted on OTC Link under the ticker symbol MLGT.

8. Solar Thin Films, Inc. is a New York corporation based in New York. Questions have arisen concerning the adequacy and accuracy of press releases concerning the company's operations. The company is quoted on OTC Link under the ticker symbol SLTZ.

9. Xumanii International Holdings Corp. is a Nevada corporation based in Nevada. Questions have arisen concerning the adequacy and accuracy of press releases concerning the company's operations. The company is quoted on OTC Link under the ticker symbol XUII.

The Commission is of the opinion that the public interest and the protection of investors require a suspension of trading in the securities of the above-listed companies.

THEREFORE, IT IS ORDERED, pursuant to Section 12(k) of the Securities Exchange Act of 1934, that trading in the securities of the above-listed companies is suspended for the period from 9:30 a.m. EDT, on September 25, 2014 through 11:59 p.m. EDT, on October 8, 2014.

By the Commission.
Jill M. Peterson,
Assistant Secretary.

[FR Doc. 2014-23247 Filed 9-25-14; 4:15 pm]

BILLING CODE 8011-01-P